DEPARTMENT OF COMMERCE

National Oceanic and Atmospheric Administration

50 CFR Part 679

[Docket No. 051017269-5269-01; I.D. 100705C]

RIN 0648-AT54

Fisheries of the Exclusive Economic Zone Off Alaska; Cape Sarichef Research Restriction Area Opening for the Groundfish Fisheries of the Bering Sea and Aleutian Islands Management Area

AGENCY: National Marine Fisheries Service (NMFS), National Oceanic and Atmospheric Administration (NOAA), Commerce.

ACTION: Proposed rule; request for comments.

SUMMARY: NMFS proposes to open the Cape Sarichef Research Restriction Area in the Bering Sea and Aleutian Islands Management Area (BSAI) to directed fishing for groundfish using trawl, pot, and hook-and-line gear from March 15, 2006, through March 31, 2006. Because NMFS' Alaska Fisheries Science Center (AFSC) will not conduct research in this area in 2006, closure of the Cape Sarichef Research Restriction Area is not needed. This action is intended to relieve an unnecessary restriction on groundfish fisheries and allow the optimum utilization of fishery resources, in accordance with the Magnuson-Stevens Fishery Conservation and Management Act (Magnuson-Stevens Act). This proposed rule also would remove the regulations for the Cape Sarichef Research Restriction Area, as well as regulations for the Chiniak Gully Research Area because both research projects have ended.

DATES: Comments on this proposed rule must be received by November 25, 2005.

ADDRESSES: Send written comments to Sue Salveson, Assistant Regional Administrator, Sustainable Fisheries Division, Alaska Region, NMFS, Attn: Lori Durall. Comments may be submitted by:

• Hand delivery: 709 West 9th Street, Room 420A, Juneau, AK.

• E-mail: 0648-at54-Sarichef@noaa.gov. Include in the subject line the following document identifier: Cape Sarichef RIN 0648-AT54. E-mail comments, with or without attachments, are limited to 5 megabytes.

• Webform at the Federal eRulemaking Portal: www.regulations.gov. Follow the instructions at that site for submitting comments.

• Fax: 907-586-7557.

• Mail: P.O. Box 21668, Juneau, AK 99802-1668.

Copies of the regulatory impact review (RIR), prepared for this action are available from NMFS at the above address or from the NMFS Alaska Region website at www.fakr.noaa.gov.

FOR FURTHER INFORMATION CONTACT: Becky Carls, 907-586-7228 or becky.carls@noaa.gov.

SUPPLEMENTARY INFORMATION: The groundfish fisheries in the exclusive economic zone of the BSAI and Gulf of Alaska (GOA) are managed by NMFS under the Fishery Management Plans (FMPs) for Groundfish of the BSAI and Groundfish of the GOA. The FMPs were prepared by the North Pacific Fishery Management Council (Council) under the Magnuson-Stevens Act, 16 U.S.C. 1801 et seq. Regulations governing U.S. fisheries and implementing the FMPs appear at 50 CFR parts 600 and 679.

Background and Need for Action

In October 2002, the Council adopted a regulatory amendment to implement a seasonal closure to directed fishing for groundfish by vessels using trawl, pot, or hook-and-line gear in a portion of the waters off Cape Sarichef just north of Unimak Pass in the Aleutians (68 FR 11004, March 7, 2003). The purpose of that action was to support an AFSC research project testing the hypothesis that commercial trawl fishing imposed localized depletion on stocks of Pacific cod. The results of the research project had the potential to provide information on the impacts of fishing on Pacific cod stocks, and on Steller sea lion forage resources. That research was scheduled to occur in each of four consecutive years (2003 through 2006) between March 15 and March 31. The closure of this area to pot, hook-and-line, and trawl gear users is applicable through March 31, 2006.

In June 2005, AFSC staff reported to the Council that their research results over the first three years were so unambiguous and consistent that they were ending the study one year earlier than originally planned. The results of the Cape Sarichef study are available on the Internet at www.afsc.noaa.gov/Quarterly/amj2005/divrptsREFM6.htm. Because the study would not be conducted in 2006, AFSC staff indicated that the special closure of the study area for March 15-31, 2006, would not be needed. The Council recommended and NMFS is proposing to remove the closure specified in § 679.22(a)(11). Maintaining the closure in 2006 would unnecessarily restrict the groundfish fisheries because no research will be conducted in 2006. Removing the 2006 trawl, pot, and hook-and-line gear closure would allow vessels participating in groundfish fisheries to harvest their total allowable catch amounts without the operational constraints imposed by the closure.

In addition, this regulatory amendment includes a housekeeping measure that would remove regulations for the Chiniak Gully Research Area off Kodiak Island, which were applicable through December 31, 2004.

Proposed Changes to Regulations

In § 679.22, NMFS proposes to remove and reserve paragraphs (a)(11) and (b)(3). Figure 21 to part 679, which shows the Cape Sarichef Research Restriction Area, also would be removed and reserved.

Classification

NMFS has determined that the proposed rule is consistent with the FMPs and preliminarily determined that the rule is consistent with the Magnuson-Stevens Act and other applicable laws.

This proposed rule has been determined to be not significant for purposes of Executive Order 12866.

The Chief Counsel for Regulation of the Department of Commerce certified to the Chief Counsel for Advocacy of the Small Business Administration (SBA) that this proposed rule, if adopted, would not have a significant economic impact on a substantial number of small entities as follows:

The Initial Regulatory Flexibility Analysis (IRFA) prepared to support the original Cape Sarichef closure found that in the years 1998 to 2001, between 36 and 67 entities had operated annually in the State of Alaska statistical area (655430) that includes the Cape Sarichef closure area. Smaller numbers had fished in the two most recent years. Between 21 and 56 of these appear to be small entities under the criteria used by the SBA to identify small fishing entities (annual gross revenues less than or equal to $3.5 million). The IRFA noted that affected operations could include vessels fishing with trawl gear, hook-and-line, and pots, and could include both catcher vessels and catcher processors. No entities are affected by removing the Chiniak Gully regulations because that closure is no longer applicable, and removal of the obsolete references to it in the regulations would be merely a housekeeping amendment.

The IRFA noted that the original closure action had the potential to adversely affect the revenues and costs of directly regulated small entities. Expected impacts were reported likely to accrue due to reduced catch per unit effort in alternative “open” fishing areas, and possible crowding externalities (e.g., gear conflicts or displacement). In addition, by forcing operations to fish in different geographic and temporal patterns than they would otherwise have voluntarily chosen, the closure might be associated with some increased operating costs (e.g., longer running times and distances between port and remaining open fishing grounds). This action would rescind a fishing restriction that would otherwise continue to impose costs, but yield no further scientific benefit which was the offsetting factor that led to the original closure. The other aspect of this action simply excises obsolete language from the regulations pertaining to a fishing area closure that is no longer applicable. Therefore, the proposed action would cause no adverse economic impacts on small entities.

In general, the IRFA for the original Cape Sarichef research closure found that the four-year duration of the action that was contemplated at the time would be associated with a very small potential for adverse impacts on small entities. The current action removes any further potential burden (i.e., costs) associated with the Cape Sarichef closure, but does so for only one of the four years initially evaluated. Because the currently closed area is closer to the ports where catcher vessels deliver their harvests than are the likely alternative fishing grounds, lifting the Cape Sarichef restriction would reduce running times, thus saving both time and fuel.

In retrospect, the costs of the four year program appear to have been small based on the supporting analyses for the present action. The cost savings from relieving the Cape Sarichef restriction would be expected to be about one-fourth (one year's worth) of the impact of the original action. Therefore, the presently proposed action is not expected to have a significant impact on any small entities. Likewise, revocation of obsolete language for a closure that is no longer applicable would impose no discernable impacts, positive or negative, on small entities. This action would not place small entities at a competitive disadvantage to large entities.

Because this proposed rule has no significant economic impacts on a substantial number of small entities, an initial regulatory flexibility analysis is not required and none has been prepared.

List of Subjects in 50 CFR Part 679

Alaska, Fisheries.

Dated: October 20, 2005.
James W. Balsiger,
Acting Deputy Assistant Administrator for Regulatory Programs, National Marine Fisheries Service.

For the reasons set out in the preamble, 50 CFR part 679 is proposed to be amended as follows:

PART 679—FISHERIES OF THE EXCLUSIVE ECONOMIC ZONE OFF ALASKA

1. The authority citation for part 679 continues to read as follows:

Authority: 16 U.S.C. 773 et seq.; 1540(f); 1801 et seq.; 1851 note; 3631 et seq.

§ 679.22 [Amended]

2. In § 679.22, remove and reserve paragraphs (a)(11) and (b)(3).

PART 679— [AMENDED]

3. In part 679, remove and reserve Figure 21 to Part 679—Cape Sarichef Research Restriction Area (Applicable through March 31, 2006).

[FR Doc. 05-21385 Filed 10-25-05; 8:45 am]

BILLING CODE 3510-22-S